FEDERAL COMMUNICATIONS COMMISSION

47 CFR Part 73

[GN Docket No. 12-268, ET Docket Nos. 13-26 and 14-14; Report No. 3015]

Petitions for Reconsideration of Action in Rulemaking Proceeding

AGENCY: Federal Communications Commission.

ACTION: Petition for reconsideration.

SUMMARY: Petitions for Reconsideration (Petitions) have been filed in the Commission's Rulemaking proceeding by Donald G. Everist, on behalf of Cohen, Dippell and Everist, P.C.; Rick Kaplan, on behalf of National Association of Broadcasters; Lawrence R. Krevor, on behalf of Sprint Corporation.

DATES: Oppositions to the Petitions must be filed on or before February 26, 2015. Replies to an opposition must be filed on or before March 9, 2015.

ADDRESSES: Federal Communications Commission, 445 12th Street SW., Washington, DC 20554.

FOR FURTHER INFORMATION CONTACT: Aspasia Paroutsas, Office of Engineering and Technology Bureau, 202-418-7285, Aspasia.Paroutsas@fcc.gov.

SUPPLEMENTARY INFORMATION: This is a summary of Commission's document, Report No. 3015, released January 30, 2015. The full text of this document is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A) because this notice does not have an impact on any rules of particular applicability.

Subject: Expanding the Economic and Innovation Opportunities of Spectrum Through Incentive Auctions, published at 79 FR 76903, December 23, 2014, in GN Docket No. 12-268; ET Docket Nos. 13-26 and 14-14, and this notice is published pursuant to 47 CFR 1.429(e) of the Commission's rules. See also 47 CFR 1.4(b)(1) of the Commission's rules.

Number of Petitions Filed: 3

Federal Communications Commission.
Marlene H. Dortch,
Secretary.

[FR Doc. 2015-02716 Filed 2-10-15; 8:45 am]

BILLING CODE 6712-01-P